ENVIRONMENTAL PROTECTION AGENCY

[OEI-2003-0003; FRL-7553-6]

Agency Information Collection Activities; Submission to OMB for Review and Approval; Comment Request; Confidentiality Rules, EPA ICR Number 1665.06, OMB Control Number 2020-0003

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The current ICR is scheduled to expire on September 30, 2003. Under OMB regulations, EPA may continue to conduct or sponsor the collection of information while this submission is pending at OMB. This renewal notice describes the nature of the information collection and its estimated burden and cost.

DATES: Additional comments may be submitted on or before October 6, 2003.

ADDRESSES: Submit your comments, referencing docket ID number OEI-2003-0003, to (1) EPA online using EDOCKET (our preferred method), by e-mail to oei.docket@epa.gov, or by mail to: EPA Docket Center, Environmental Protection Agency, OEI Docket, (28221T), 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Jeffrey Kohn, Collection Strategies Division, Office of Information Collection (2822T), Environmental Protection Agency, 1200 Pennsylvania Ave., NW., Washington, DC 20460; telephone number: (202) 566-1407; fax number: (202) 566-1639; e-mail address: kohn.jeffrey@epa.gov.

SUPPLEMENTARY INFORMATION: EPA has submitted this renewal ICR to OMB for review and approval according to the procedures prescribed in 5 CFR 1320.12. On April 10, 2003 (68 FR 17631), EPA sought comments on this renewal ICR pursuant to 5 CFR 1320.8(d). EPA has received and addressed comments from one organization.

EPA has established a public docket for this renewal ICR under Docket ID No. OEI-2003-0003, which is available for public viewing at the OEI Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone and fax numbers for the OEI Docket are (202) 566-1752 and (202) 566-1753, respectively. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this renewal ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

An agency may not conduct or sponsor, and a person is not required to respond to, a collection of information unless it displays a currently valid OMB control number. The OMB control numbers for EPA's regulations in 40 CFR are listed in 40 CFR part 9 and are identified on the form and/or instrument, if applicable.

Title: Confidentiality Rules (OMB Control No. 2020-0003; EPA ICR No. 1665.06), expiring September 30, 2003.

Abstract: EPA administers a number of environmental protection statutes (e.g., the Clean Water Act; the Clean Air Act; the Toxic Substances Control Act; the Resource Conservation and Recovery Act; and the Comprehensive Environmental Response, Compensation, and Liability Act), under which the Agency collects information from thousands of facilities in many economic sectors. In addition, businesses submit information to EPA without the Agency requesting it. The information addresses topics such as toxic chemicals, industrial processes, waste streams, and regulatory compliance. In many cases, businesses that submit information claim it to be confidential business information (CBI).

EPA established the procedures described in 40 CFR part 2, subparts A and B to protect the confidentiality of information as well as the rights of the public to obtain access to the information under the Freedom of Information Act (FOIA). In accordance with these regulations, when EPA finds it necessary to make a final confidentiality determination (e.g., in response to a FOIA request or in the course of rulemaking or litigation), or an advance confidentiality determination, it notifies the affected business by sending a letter requesting substantiation of the confidentiality claim. This letter provides the affected business with an opportunity to submit comments (i.e., a substantiation). EPA then considers the business's comments in determining whether the previously submitted information should be protected as CBI. This renewal ICR relates to the collection of information that will assist EPA in determining whether previously submitted information is entitled to confidential treatment.

EPA is proposing to use an updated Request for Substantiation letter (“proposed letter”). The proposed letter is made up of two separate sample letters that address different factual situations: Sample Letter A, which requests a substantiation in response to a FOIA request, and Sample Letter B, which requests a substantiation in support of Agency rulemaking or litigation, in the case of an advance confidentiality determination, or for any other Agency purpose. The use of two letters is a clarification of existing EPA procedures. Some of the information requested differs slightly from the current Request for Substantiation letter, concerning the possible voluntary nature of the submission and the issue of substantial competitive harm, and takes into account the vast amount of information now available electronically. Nevertheless, EPA estimates that the overall burden to respond to inquiries contained in the proposed letter is the same as the burden to respond to inquiries contained in the current Request for Substantiation letter.

Burden Statement: The annual public reporting and recordkeeping burden for this collection of information is estimated to average approximately 5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The total annual hour and cost burden for all substantiations is as follows:

Respondents/Affected Entities: Business and other for profit organizations.

Estimated Number of Respondents: 1101.

Frequency of Response: On occasion.

Estimated Total Annual Hour Burden: 6,521 hours.

Estimated Total Annual Capital and Operations and Maintenance Cost: $0.

Changes in the Estimates: These estimates show an increase of approximately 89 hours and $27,973 in the total estimated burden from the figures currently identified in the OMB Inventory of Approved ICR Burdens. The increase in the burden hour estimate results from an adjustment to incorporate 0.20 hours per substantiation request for an attorney to review the request. The increase in cost burden results from this small increase in the hour estimate and from updated hourly wages for private industry and Agency employees.

Dated: August 12, 2003.
Andrew Battin,
Director, Collection Services Division.

[FR Doc. 03-22643 Filed 9-4-03; 8:45 am]

BILLING CODE 6560-50-P